DEPARTMENT OF JUSTICE

Antitrust Division

Notice Pursuant to the National Cooperative Research and Production Act of 1993—Biztech for Energy (“BizTech”)

Notice is hereby given that, on December 22, 2000, pursuant to Section 6(a) of the National Cooperative Research and Production Act of 1993, 15 U.S.C. 4301 et seq. (“the Act”), BizTech for Energy (“BizTech”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Crawley Petroleum Corporation, Oklahoma City, OK; Schlumberger Geoquest, Austin, TX; Oil India Limited, Duliajan, Assam, INDIA; Phillips Petroleum Co., Bellaire, TX; Quillion Inc., Houston, TX; Tobin International Ltd., Houston, TX; enertia-software.com, Midland, TX; NetworkOil, Inc., Houston, TX; Landmark Graphics Corporation, Houston, TX; Microsoft, Houston, TX; PricewaterhouseCoopers, LLP, Houston, TX; Oracle Corporation, Houston, TX; Chevron Information Technology Co., Houston, TX; SAP America, Inc., Houston, TX; Environmental Systems Research Institute, Redlands, CA: TietoEnator, Sandnes, NORWAY; Merrick Systems, Inc., Houston, TX; INT, Houston, TX; POSC, Houston, TX; Novistar, Inc., Englewood, CO; and Seismic Micro-Technology, Houston, TX. The nature and objectives of the venture are to develop and publish standards to facilitate communication and operations within a corporation engaged in the energy business and standards to facilitate communications among such corporations and their external vendors. The development of such standards will increase the efficiency of corporations in the energy business. In addition, it will allow corporations to have access to and utilize publicly available data in developing strategic plans and other goals for future research and operations.

Constance K. Robinson,
Director of Operations, Antitrust Division.

[FR Doc. 01-5707 Filed 3-7-01; 8:45 am]

BILLING CODE 4410-11-M